DEPARTMENT OF DEFENSE

Department of the Navy

Notice of Intent To Grant Partially Exclusive License; American Innovations, Inc.

AGENCY: Department of the Navy, DoD.

ACTION: Notice.

SUMMARY: The Department of the Navy hereby gives notice of its intent to grant American Innovations, Inc. a revocable, nonassignable, partially exclusive license, with exclusive fields of use in entry control points, route clearance, patrolling, site exploitation, cache finds, area surveillance, joint security stations/combat outposts, raids, SPECOPS, K-9 support, training, in the United States to practice the Government-owned invention, U.S. Patent Application Serial Number 13/137521, filed August 24, 2011, entitled “Bulk Homemade Explosives (HME) Precursor Detection Kit.”

DATES: Anyone wishing to object to the grant of this license must file written objections along with supporting evidence, if any, not later than October 6, 2011.

ADDRESSES: Written objections are to be filed with the Indian Head Division, Naval Surface Warfare Center, Code OC4, Bldg. D-31, 3824 Strauss Avenue, Indian Head, MD 20640-5152.

FOR FURTHER INFORMATION CONTACT: Dr. J. Scott Deiter, Head, Technology Transfer Office, Naval Surface Warfare Center Indian Head Division, Code CAB, 3824 Strauss Avenue, Indian Head, MD 20640-5152, telephone 301-744-6111.

Dated: September 13, 2011.
J. M. Beal,
Lieutenant Commander, Judge Advocate General's Corps, U.S. Navy, Federal Register Liaison Officer.

[FR Doc. 2011-24183 Filed 9-20-11; 8:45 am]

BILLING CODE 3810-FF-P